DEPARTMENT OF TRANSPORTATION

Federal Transit Administration

Environmental Impact Statement on the Dulles Corridor Rapid Transit Project in Metropolitan Washington, DC

AGENCY: Federal Transit Administration, DOT.

ACTION: Notice of intent to prepare an Environmental Impact Statement (EIS).

SUMMARY: The Federal Transit Administration (FTA), the Virginia Department of Rail and Public Transportation (DRPT), and the Washington Metropolitan Area Transit Authority (WMATA) intend to prepare an Environmental Impact Statement (EIS) in accordance with the National Environmental Policy Act of 1969 (NEPA), as amended, on the proposed Dulles Corridor Rapid Transit Project in Fairfax and Loudoun Counties, Virginia, which are within the metropolitan area of Washington, D.C. The lead agencies will also seek the cooperation of the Federal Aviation Administration (FAA), the Virginia Department of Transportation (VDOT), and the Metropolitan Washington Airports Authority (MWAA) in conducting this review.

The EIS will address the need to improve transit access and mobility in response to projected growth, traffic congestion, and land-use plans for the Dulles Corridor, including Tysons Corner. The EIS will develop alternatives for the project which will (1) be feasible, cost-effective, and beneficial transportation improvements that enhance connections to the existing transit systems, to Washington Dulles International Airport, and to land developments throughout the Dulles Corridor; (2) increase transit bus and Metrorail ridership; and (3) enhance the region's economic vitality and quality of life. The EIS will evaluate a No-Build Alternative, a Transportation Systems Management (TSM) Alternative, several Build Alternatives, and any additional alternatives generated by the scoping process. The TSM Alternative will assess low cost, operationally oriented improvements to meet the transportation needs in the Dulles Corridor and will be equivalent to enhanced local and express bus service in the two counties. The Build Alternatives will consider Bus Rapid Transit (BRT), Metrorail rapid transit, and combinations of these transit modes. The type, design, location, and need of ancillary facilities, such as parking facilities, bus maintenance depots, and rail yards, will also be considered for the Build Alternatives. Scoping will be accomplished through meetings and correspondence with interested persons, organizations, the general public, Federal, State, regional, and local agencies.

DATES: Comment Due Date: Written comments on the scope of alternatives and impacts to be considered should be sent to Mr. Leonard Alfredson, Project Manager, Office of Extensions, Washington Metropolitan Area Transit Authority, 1550 Wilson Boulevard, Suite 300, Arlington, VA 22209, by Thursday, August 10, 2000.

Scoping Meetings: Public scoping meetings for the Dulles Corridor Rapid Transit Project will be held on:

Tuesday, July 25, 2000

7 p.m. to 10 p.m., George C. Marshall High School, 7731 Leesburg Pike, Falls Church, Virginia 22043.

Wednesday, July 26, 2000

7 p.m. to 10 p.m., Langston Hughes Middle School, 11401 Ridge Heights Road, Reston, Virginia 20191.

Thursday, July 27, 2000

7 p.m. to 10 p.m., Ashburn Elementary School, 44062 Fincastle Drive, Ashburn, Virginia 20147.

The locations of the scoping meetings are accessible to persons with disabilities. Any individual with a disability who requires special assistance, such as a sign language interpreter, to participate in the scoping meetings, should contact Mr. Leonard Alfredson at the address below or call the project INFO line at 888-566-7245 (TTD: 202-638-3780) by Monday, July 17, 2000, in order for WMATA to make necessary arrangements.

Scoping material will be available at the meetings and may also be obtained in advance of the meetings by contacting Mr. Alfredson at the address below or by calling the project INFO line above. Oral and written comments may be given at the scoping meetings; a video team will record all comments. If you wish to be placed on the mailing list to receive further information as the project develops, contact Mr. Leonard Alfredson at the address below, call the project INFO line at 888-566-7245, or send an e-mail (including your name and address) to dullescorridor@aol.com.

ADDRESSES: Written comments on the project scope should be sent to Mr. Leonard Alfredson, Project Manager, Office of Extensions, Washington Metropolitan Area Transit Authority, 1550 Wilson Boulevard, Suite 300, Arlington, VA 22209. Scoping meetings will be held at the locations identified above in the DATES section.

FOR FURTHER INFORMATION CONTACT: Mr. Douglas Kerr, P.E., Washington Metro Area Coordinator, Federal Transit Administration, 202-366-1641.

SUPPLEMENTARY INFORMATION:

I. Scoping

The FTA, DRPT, and WMATA invite all interested individuals and organizations, and federal, state, regional, and local agencies to provide comments on the scope of the project. During the scoping process, comments should focus on identifying specific social, economic, or environmental issues to be evaluated and on suggesting alternatives, which may be less costly or have less environmental impacts, while achieving similar transportation objectives. Comments should focus on the issues and alternatives for analysis and not on a preference for a particular alternative. Scoping material will be available at the meetings or in advance of the meetings by contacting Mr. Leonard Alfredson at WMATA or by calling the project INFO line, as indicated above.

The Dulles Corridor Rapid Transit Project will be closely coordinated with the following major regional studies and projects:

• Capital Beltway Corridor Rail Feasibility Study, a study by DRPT on the feasibility of constructing commuter rail from the existing mass transit rail facilities at Springfield to the mass transit rail facilities at or near Tysons Corner and Vienna. The study will examine the continuation of rail from Tysons Corner to a connection with rail in Maryland.

• Capital Beltway NEPA Study, an analysis by the Virginia Department of Transportation (VDOT) of beltway capacity and access improvements.

• Dulles International Airport Master Plan and landside improvements, a program of projects by the Metropolitan Washington Airports Authority.

• I-66 EIS and Location Study, a step in developing and implementing highway and transit improvements in the I-66 corridor between U.S. Route 15 in Prince William County and I-495 in Fairfax County.

Following the public scoping process, public outreach activities will include meetings with communities and organizations; public meetings on alternatives; public hearing(s) on the Draft EIS; distribution of project fact sheets and newsletters; and use of other outreach methods.

II. Description of Study Area and Transportation Needs

The study area of the proposed Dulles Corridor Rapid Transit Project is centered on the alignment of the Dulles Airport Access Road and the Dulles Toll Road within Fairfax County, and the Dulles Greenway—the private extension of the Toll Road—in Loudoun County. The length of the Corridor is more than 24 miles, extending from the Metrorail Orange Line, at a point between the West Falls Church Station and East Falls Church in Fairfax County, through the Washington Dulles International Airport and onto Route 772 in Loudoun County. The study area encompasses Tysons Corner, through which alignment alternatives traverse. The study area also includes the vicinity of stations and ancillary facilities such as parking, bus maintenance depot, and rail yard. This study area is generalized and considered flexible, subject both to the outcome of the scoping process and the locations of the alternatives studied in detail.

The Metropolitan Washington Council of Governments expects the population and employment in the Dulles Corridor over the next twenty years to increase more rapidly than the metropolitan regional averages. The increases in households and jobs in the Corridor are significantly large in both relative and absolute numbers. MWAA projects that the Washington Dulles International Airport will also have significant increases in air travel patronage, air cargo operations, and employees; therefore, ground-side access volumes at the Airport will be growing substantially. The projected consequence of this rapid growth in travel is markedly higher traffic volumes on highways and streets throughout the region and in the Dulles Corridor. Traffic congestion on the Toll Road will increase in both severity and duration as the peak period “spreads” to encompass earlier and later hours. VDOT projects travel on parallel arterials to increase proportionately as increasing congestion on the Toll Road will cause a higher fraction of travel in the Corridor to use alternative routes.

In response to the above transportation conditions, DRPT conducted a Major Investment Study (MIS), with a supplement, for the Dulles Corridor. The results of the 1997 MIS study and its 1999 supplement resulted in a four-phase implementation program of express bus service in two phases, then Bus Rapid Transit as an interim transit service to rail, and then Metrorail. These documents are available for inspection by contacting Mr. Alfredson as described in the DATES section above or by visiting the DRPT web site, http://www.drpt.state.va.us/library.htm.

III. Alternatives

The alternatives proposed for evaluation include: (1) The No-Build Alternative, which involves the current infrastructure of highways and bus service, in addition to all ongoing and upcoming roadway and transit projects outlined in the regional Transportation Improvement Program (TIP); (2) the Transportation Systems Management (TSM) Alternative, which includes all elements of the No-Build alternative in addition to enhanced express bus service in the two counties. The TSM Alternative is a low cost alternative that uses existing facilities to the greatest extent possible to meet the identified transportation needs in the study area. The TSM Alternative also provides the baseline against which the cost-effectiveness of capital investments in other alternatives can be evaluated; and (3) the Build Alternatives of Bus Rapid Transit and Metrorail. There are three Build Alternatives:

(a) Bus Rapid Transit for the full length of the Dulles Corridor, between the West Falls Church Station of the Orange Line and Route 772. This alternative will be developed to permit the phased conversion of Bus Rapid Transit to Metrorail, as proposed in the 1999 Supplement to the MIS.

(b) Metrorail between the Orange Line and Tysons Corner, plus Bus Rapid Transit for the remainder of the Corridor, between Tysons Corner and Route 772. This alternative will also be developed to permit the phased conversion of Bus Rapid Transit to Metrorail, as proposed in the 1999 Supplement to the MIS.

(c) Metrorail for the full length of the Dulles Corridor, between the Orange Line and Route 772.

The Build Alternatives include alignments in the medians of the Dulles Airport Access Road and Dulles Greenway toll road, and through Tysons Corner and Washington Dulles International Airport; new stations along the alignments; and ancillary facilities of parking, bus maintenance depot, rail yard, traction power substations, and tiebreaker stations.

Additional reasonable Build Alternatives suggested during the scoping process, including those involving other modes, may be considered.

IV. Potential Impacts for Analysis

The FTA, DRPT, and WMATA will evaluate all environmental, social, and economic impacts of the alternatives analyzed in the EIS. Impacts include land use, zoning, and economic development; secondary development; cumulative impacts; land acquisition, displacements, and relocation of existing uses; historic, archaeological, and cultural resources; parklands and recreation areas; visual and aesthetic qualities; neighborhoods and communities; environmental justice; air quality; noise and vibration; hazardous materials; ecosystems; water resources; energy; construction impacts; safety and security; utilities; and transportation impacts. The impacts will be evaluated both for the construction period and for the long-term period of operation of each alternative. Measures to mitigate adverse impacts will be identified.

V. FTA Procedures

A Draft EIS will be prepared to document the evaluation of the environmental, social, and economic impacts of the alternatives. Upon completion, the Draft EIS will be available for public and agency review and comment. Public hearing(s) on the Draft EIS will be held within the study area. On the basis of the Draft EIS and the public and agency comments received, a locally preferred alternative will be selected and described in full detail in the Final EIS.

Dated: June 20, 2000.
Hiram J. Walker,
Associate Administrator for Program Management.

[FR Doc. 00-16036 Filed 6-23-00; 8:45 am]

BILLING CODE 4910-62-P